DEPARTMENT OF COMMERCE

International Trade Administration

[A-821-802]

Agreement Suspending the Antidumping Duty Investigation on Uranium From the Russian Federation: Preliminary Results of 2016-2017 Administrative Review and Postponement of Final Results

AGENCY: Enforcement and Compliance, International Trade Administration, Department of Commerce.

SUMMARY: The Department of Commerce (Commerce) is conducting an administrative review of the Agreement Suspending the Antidumping Duty Investigation on Uranium from the Russian Federation (the Agreement). We preliminarily find that the State Atomic Energy Corporation “ROSATOM” (ROSATOM), its affiliates Joint Stock Company “TENEX” (TENEX) and TENAM Corporation (TENAM), and TENEX's unaffiliated reseller, Centrus Energy Corp. and United States Enrichment Corporation (collectively, Centrus), are in compliance with the Agreement.

DATES: Applicable November 14, 2018.

FOR FURTHER INFORMATION CONTACT: Sally C. Gannon or Jill Buckles, Enforcement and Compliance, International Trade Administration, U.S. Department of Commerce, 1401 Constitution Avenue NW, Washington, DC 20230; telephone: (202) 482-0162 or (202) 482-6230, respectively.

SUPPLEMENTARY INFORMATION:

Background

On October 16, 1992, Commerce signed an agreement with the Russian Federation's Ministry for Atomic Energy (MINATOM), the predecessor to ROSATOM, under section 734(l) of the Tariff Act of 1930, as amended (the Act), suspending the antidumping duty investigation on uranium from the Russian Federation.¹ There have been five amendments to the Agreement, the most recent of which was signed on February 1, 2008.² Section 8118 of the Consolidated Security, Disaster Assistance, and Continuing Appropriations Act, codified at 42 U.S.C. 2297h et seq. (2008) (Domenici Amendment) established import limitations through 2020 that in large part mirror the export limits instituted in the 2008 amendment to the Agreement. On February 2, 2010, Commerce issued its Statement of Administrative Intent (SAI) which provided implementation guidance related to the 2008 amendment.

¹ See Antidumping; Uranium from Kazakhstan, Kyrgyzstan, Russia, Tajikistan, Ukraine, and Uzbekistan; Suspension of Investigations and Amendment of Preliminary Determinations, 57 FR 49220, 49235 (October 30, 1992) (1992 Suspension Agreement).

² See Amendment to Agreement Suspending the Antidumping Investigation on Uranium from the Russian Federation, 59 FR 15373 (April 1, 1994) (1994 Amendment); Amendments to the Agreement Suspending the Antidumping Investigation on Uranium from the Russian Federation, 61 FR 56665 (November 4, 1996) (1996 Amendments); Amendment to Agreement Suspending the Antidumping Investigation on Uranium from the Russian Federation, 62 FR 37879 (July 15, 1997) (1997 Amendment); and Amendment to the Agreement Suspending the Antidumping Investigation on Uranium from the Russian Federation, 73 FR 7705 (February 11, 2008) (2008 Amendment).

On October 4, 2017, Commerce notified interested parties of the opportunity to request an administrative review of the Agreement.³ On October 30, 2017, domestic interested party Louisiana Energy Services LLC (LES) submitted a request for an administrative review of the Agreement. On December 7, 2017, Commerce published in the Federal Register a notice initiating an administrative review of the Agreement.⁴ The period of review (POR) is October 1, 2016, through September 30, 2017. On April 27, 2018, Commerce issued questionnaires to ROSATOM, TENEX, and any other affiliated or unaffiliated exporters and resellers, as applicable. For a complete description of the events that followed the initiation of this administrative review, see the Preliminary Decision Memorandum.⁵ The Preliminary Decision Memorandum is a public document and is on file electronically via Enforcement and Compliance's Antidumping and Countervailing Duty Centralized Electronic Service System (ACCESS). ACCESS is available to registered users at https://access.trade.gov, and to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content.

³ See Antidumping or Countervailing Duty Order, Finding, or Suspended Investigation; Opportunity To Request Administrative Review, 82 FR 46217 (October 4, 2017).

⁴ See Initiation of Antidumping and Countervailing Duty Administrative Reviews, 82 FR 57705 (December 7, 2017).

⁵ See Memorandum to Gary Taverman, Deputy Assistant Secretary for Antidumping and Countervailing Duty Operations, performing the non-exclusive functions and duties of the Assistant Secretary for Enforcement and Compliance, re “Decision Memorandum for the Preliminary Results of the Administrative Review of the Agreement Suspending the Antidumping Investigation on Uranium from the Russian Federation,” dated concurrently with and adopted by this notice.

Scope of Review

The product covered by this Agreement is natural uranium in the form of uranium ores and concentrates; natural uranium metal and natural uranium compounds; alloys, dispersions (including cermets), ceramic products, and mixtures containing natural uranium or natural uranium compounds; uranium enriched in U²³⁵ and its compounds; alloys, dispersions (including cermets), ceramic products, and mixtures containing uranium enriched in U²³⁵ or compounds of uranium enriched in U²³⁵; and any other forms of uranium within the same class or kind.

Imports of uranium ores and concentrates, natural uranium compounds, and all forms of enriched uranium are currently classifiable under the Harmonized Tariff Schedule of the United States (HTSUS) subheadings: 2612.10.00, 2844.10.20, 2844.20.00, respectively. Imports of natural uranium metal and forms of natural uranium other than compounds are currently classifiable under HTSUS subheadings: 2844.10.10 and 2844.10.50. HTSUS subheadings are provided for convenience and Customs purposes. The written description of the scope of this proceeding is dispositive. A full description of the scope of the order is contained in the Preliminary Decision Memorandum.

Methodology and Preliminary Results

Commerce is conducting this review in accordance with section 751(a)(1)(C) of the Act, which specifies that Commerce shall “review the current status of, and compliance with, any agreement by reason of which an investigation was suspended.” In this case, Commerce and MINATOM (the predecessor to ROSATOM) signed the Agreement, under section 734(l) of the Act, suspending the underlying antidumping duty investigation on October 16, 1992, which was subsequently amended on March 11, 1994, October 3, 1996, May 7, 1997, and February 1, 2008. Section 734(l) provides that Commerce may suspend an investigation upon acceptance of an agreement with a non-market-economy country ⁶ to restrict the volume of imports into the United States, if Commerce determines that such an agreement is in the public interest, effective monitoring is possible, and the agreement “will prevent the suppression or undercutting of price levels of domestic products by imports of the merchandise under investigation.”

⁶ Because Commerce determined that the Russian Federation was a non-market economy at the time the Agreement was signed, the Agreement was entered into under section 734(l) of the Act, which applies to non-market-economy countries.

After reviewing the information submitted in initial questionnaire responses and related new factual information and comments from interested parties in this administrative review, we preliminarily find no evidence that the Agreement's export limits have not been complied with, or evidence of any violation of the Agreement, during the POR. For example, Commerce reviewed the contract, contract amendment, shipment approval request documentation, and Master Export Schedules submitted on the record of the administrative review by the respondents for completeness and compliance. We found no discrepancies in the respondents' utilization of the export limits during the POR, i.e., the overall export limits were not exceeded nor were approved contract quantities exceeded. However, in examining respondents' individual contracts, contract amendments, and shipment documentation filed on the record of the review, we found certain inconsistencies that required further examination and clarification. Consequently, Commerce issued supplemental questionnaires to TENEX, TENAM, and Centrus regarding, in part, certain contracts in force and shipments executed during the POR. We have not yet received all of the supplemental questionnaire responses and/or had the opportunity to undertake a fulsome review of the responses to these supplemental questionnaires. In addition, based on Commerce's review to date of the record information, we do not yet find a sufficient basis to make a complete determination as to whether the Agreement continues to meet the relevant statutory requirements set forth in Section 734(l) of the Act.

In light of parties' comments and due to the complex nature of the issues of price suppression and undercutting and public interest, we find that we require additional time and information in order to complete our examination of whether the Agreement continues to meet the statutory requirements referenced above. Commerce also needs to obtain additional information and needs additional time to evaluate information received, and to be received, from respondents and interested parties in order to complete its examination of the current status of the Agreement. Therefore, we intend to continue our examination after the issuance of these preliminary results as to whether the Agreement has been complied with during the POR and whether the Agreement continues to meet the statutory requirements set forth in section 734(l) of the Act and intend to issue a post-preliminary analysis as soon as practicable. For a full description of the methodology underlying our conclusions, see the Preliminary Decision Memorandum.

Disclosure and Public Comment

As discussed above, Commerce needs additional information and additional time to review the information received before making a definitive preliminary finding. Therefore, we intend to issue a post-preliminary analysis on these issues as soon as practicable. The comment period on these preliminary results as well as the post-preliminary analysis will be stated with the release of the post-preliminary analysis. At that time, interested parties will have the opportunity to submit case and rebuttal briefs.

Pursuant to 19 CFR 351.310(c), interested parties who wish to request a hearing must submit a written request to the Assistant Secretary for Enforcement and Compliance, filed electronically via ACCESS. An electronically filed document must be received successfully in its entirety by Commerce's electronic records system ACCESS, by 5:00 p.m. Eastern Time within 30 days after the date of publication of this notice. Requests should contain: (1) The party's name, address and telephone number; (2) the number of participants; and (3) a list of issues to be discussed. Issues raised in the hearing will be limited to those raised in the respective case briefs. If a request for a hearing is made, parties will be notified of the time and date for the hearing to be held at the U.S. Department of Commerce, 1401 Constitution Avenue NW, Washington, DC 20230.⁷

⁷ See 19 CFR 351.310(c).

Postponement of Final Results

Section 751(a)(3)(A) of the Act, requires Commerce to complete the final results of an administrative review within 120 days after the date on which the preliminary results are published. If it is not practicable to complete the review within this time period, section 751(a)(3)(A) of the Act and 19 CFR 351.213(h)(2) allow Commerce to extend the time limit for the final results to a maximum of 180 days after the date on which the preliminary results are published.

We determine that it is not practicable to complete the final results of this administrative review within 120 days from the date of publication of these preliminary results. Commerce requires additional time to analyze supplemental questionnaire responses, complete our examination, issue our post-preliminary analysis, conduct verification of questionnaire responses, and allow for case briefs and rebuttal briefs on our preliminary and post-preliminary results. Accordingly, Commerce is extending the deadline for the final results of this administrative review by 60 days. The final results of the review will now be due no later than 180 days from the date of publication of these preliminary results.

We are issuing and publishing these preliminary results of review in accordance with sections 751(a)(l) and 777(i)(l) of the Act and 19 CFR 351.213.

Dated: November 5, 2018.
Gary Taverman,
Deputy Assistant Secretary for Antidumping Duty and Countervailing Duty Operations, performing the non-exclusive functions and duties of the Assistant Secretary for Enforcement and Compliance.

[FR Doc. 2018-24799 Filed 11-13-18; 8:45 am]

BILLING CODE 3510-DS-P